COUNCIL OF THE INSPECTORS GENERAL ON INTEGRITY AND EFFICIENCY

Senior Executive Service Performance Review Board Membership

AGENCY: Council of the Inspectors General on Integrity and Efficiency.

ACTION: Notice.

DATES: Applicable October 1, 2024.

FOR FURTHER INFORMATION CONTACT: Andrew Cannarsa, CIGIE Executive Director, (202) 292-2600. Individual Office of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008 established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. CIGIE is an interagency council whose executive chair is the Deputy Director for Management, Office of Management and Budget, and is comprised principally of the 73 Inspectors General (IGs).

II. CIGIE Performance Review Board

Under 5 U.S.C. 4314(c)(1) through (5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2024, are as follows:

Agency for International Development, Phone Number: (202) 712-1150, CIGIE Liaison—Paul K. Martin, (202) 712-4119, pkmartin@oig.usaid.gov

• Paul K. Martin—Inspector General

• Toayoa Aldridge—Assistant Inspector General for Audits, Inspections and Evaluations

• Gabriele Tonsil—Deputy Assistant Inspector General for Audits, Inspections and Evaluations

• Marc Meyer—Assistant Inspector General for Investigations

• Eric Maddox—Deputy Assistant Inspector General for Investigations

• Dianne Campbell—Assistant Inspector General for Management

Department of Agriculture, Phone Number: (202) 720-8001, CIGIE Liaison—Angel N. Bethea (202) 720-8001, angel.bethea@oig.usda.gov

• Virginia E.B. Rone—Deputy Inspector General

• Christy A. Slamowitz—Counsel to the Inspector General

• Janet Sorensen—Assistant Inspector General for Audit

• Steven H Rickrode, Jr.—Deputy Assistant Inspector General for Audit

• Yarisis Rivera Rojas—Deputy Assistant Inspector General for Audit

• Nicole Gardner—Assistant Inspector General for Investigations

• Mily Le—Assistant Inspector General for Management

• Peter J. Sima-Eichler—Assistant Inspector General for Analytics and Innovation

Department of Commerce, Phone Number: (202) 578-3324, CIGIE Liaison—Melina Avakian (202) 578-3324, mavakian@oig.doc.gov

• Roderick M. Anderson—Deputy Inspector General.

• Richard L. Bachman—Assistant Inspector General for Audit and Evaluation.

• E. Wade Green, Jr.—Counsel to the Inspector General.

• Robert O. Johnston, Jr.—Chief of Staff.

• Scott M. Kieffer—Assistant Inspector General for Investigations.

• Frederick J. Meny—Assistant Inspector General for Audit and Evaluation.

• Arthur L. Scott, Jr.—Assistant Inspector General for Audit and Evaluation.

• Mark H. Zabarsky—Principal Assistant Inspector General for Audit and Evaluation.

Council of the Inspectors General on Integrity and Efficiency, Phone Number: (202) 292-2600, CIGIE Liaison—Denise Mangra (202) 292-2604, denise.mangra@cigie.gov

Andrew Cannarsa—Executive Director, Department of Defense, Phone Number: (703) 604-8324, CIGIE Liaison—Darcell E. Wilder (703) 699-7495, Darcell.wilder@dodig.mil

• Jaryd M. Bern—Assistant Inspector General for Legislative Affairs & Communications

• Bryan T. Clark—Assistant Inspector General for Evaluations (Program, COCOM, and OCO Operations)

• David A. Core—Principal Deputy General Counsel

• Leo J. FitzHarris IV—Deputy Inspector General for Mission Support

• Grant A. Fleming—Assistant Inspector General for Investigations (Operations)

• Marguerite C. Garrison—Deputy Inspector General for Administrative Investigations

• Carol N. Gorman—Assistant Inspector General for Audit (Readiness and Cyber Operations)

• Paul Hadjiyane—General Counsel

• James R. Ives—Principal Assistant Inspector General for Investigations

• Carmine J. Malone—Assistant Inspector General for Audit (Readiness and Cyber Operations)

• Brett A. Mansfield—Deputy Inspector General for Audit

• Kelly P. Mayo—Deputy Inspector General for Investigations

• Troy M. Meyer—Deputy Inspector General for Overseas Contingency Operations

• Harris S. Quddos—Chief Information Officer

• Michael J. Roark—Deputy Inspector General for Evaluations

• Ogochukwu A. Ekwuabu—Assistant Inspector General for Strategic Planning and Performance

• Gregory P. Shilling—Assistant Inspector General for Investigations (Internal Operations)

• Janet L. Stallings—Principal Assistant Inspector General for Audit

• Steven A. Stebbins—Principal Deputy Inspector General

• Randolph R. Stone—Assistant Inspector General for Evaluations (Space, Intelligence, Engineering and Oversight)

• Richard B. Vasquez—Assistant Inspector General for Audit (Readiness and Global Operations)

• Lorin T. Venable—Assistant Inspector General for Audit (Financial Management and Reporting)

• David G. Yacobucci—Assistant Inspector General for Data Analytics

• Willie L. Young—Principal Assistant Inspector General for Mission Support

Department of Education, Phone Number: (202) 245-6900, CIGIE Liaison—Theresa Perolini (202) 987-0174, Theresa.Perolini@ed.gov

• René Rocque—Deputy Inspector General

• Sean Dawson—Assistant Inspector General for Audit

• Jason Williams—Assistant Inspector General for Investigations

• Terry Harris—Deputy Assistant Inspector General for Investigations

• Antonio Murray—Acting Assistant Inspector General for Technology Services

• Antigone Potamianos—Counsel to the Inspector General

• Joy Stith—Assistant Inspector General for Management Services

• Takiyah Golden—Deputy Assistant Inspector General for Management Services

• Theresa Perolini—Assistant Inspector General for Enterprise and External Affairs

Department of Energy, Phone Number: (202) 586-1818, CIGIE Liaison—Ryan Cocolin (202) 381-6035, Ryan.Cocolin@hq.doe.gov

• Jennifer Quinones—Deputy Inspector General

• Sarah Nelson—Assistant Inspector General for Management and Administration

• Lewe Sessions—Assistant Inspector General for Investigations

• Anthony Cruz—Assistant Inspector General for Inspections, Intelligence Oversight, and Special Projects

• Deborah Thomas—Deputy Assistant Inspector General for Inspections, Intelligence Oversight, and Special Projects

• Kshemendra Paul—Assistant Inspector General for Cyber Assessments and Data Analytics

• Todd Wisniewski—Deputy Assistant Inspector General for Cyber Assessments and Data Analytics

• Matthew Dove—Assistant Inspector General for Audits

• John McCoy—Deputy Assistant Inspector General for Audits

• Travis Farris—Chief Counsel to the Inspector General

• Jonathan Black—Chief Advisor for Strategic Planning and Program Oversight

Environmental Protection Agency, CIGIE Liaison—Jee Kim (202) 566-1429, kim.jee@epa.gov

• Nicole Murley—Deputy Inspector General

• Stephanie Wright—Assistant Inspector General for Information Technology

• Erica Kavanagh—Associate Deputy Inspector General

• Mary Katherine Trimble—Assistant Inspector General for Audit

• Paul Bergstrand—Assistant Inspector General for Special Review and Evaluatio

Federal Communications Commission, Phone Number: (202) 418-0470, CIGIE Liaison—Johnny Drake (202) 418-7328, johnny.drake@fcc.gov

• Fara Damelin—Inspector General

• Sharon Diskin—Assistant Inspector General for Investigations

Federal Labor Relations Authority, Phone Number: (771) 444-5712, CIGIE Liaison—Dana Rooney (771) 444-5712, drooney@flra.gov.

• Dana Rooney—Inspector General

Federal Maritime Commission, Phone Number: (202) 523-5863, CIGIE Liaison—Jon Hatfield (202) 523-5863, jhatfield@fmc.gov.

• Jon Hatfield—Inspector General

Federal Trade Commission, Phone Number: (202) 326-2355, CIGIE Liaison—Andrew Katsaros (202) 326-2355, akatasaros@ftc.gov

• Andrew Katsaros—Inspector General

• Marissa Gould—Principal Deputy Inspector General

General Services Administration, Phone Number: (202) 501-0450, CIGIE Liaison—Sarah Breen (202) 273-7284, sarah.breen@gsaig.gov

• Robert C. Erickson, Jr.—Deputy Inspector General

• Edward J. Martin—Counsel to the Inspector General

• R. Nicholas Goco—Assistant Inspector General for Auditing

• Barbara E. Bouldin—Deputy Assistant Inspector General for Acquisition Program Audits

• Brian J. Gibson—Deputy Assistant Inspector General for Real Property Audits

• James E. Adams—Assistant Inspector General for Investigations

• Jason M. Suffredini—Deputy Assistant Inspector General for Investigations

• Patricia D. Sheehan—Assistant Inspector General for Inspections

• Kristine M. Preece—Assistant Inspector General for Administration

Department of Health and Human Services, Phone Number: (202) 619-3148, CIGIE Liaison—Steven Driscoll (202) 860-4777, Steven.Driscoll@oig.hhs.gov

• Juliet Hodgkins—Principal Deputy Inspector General

• Megan Tinker—Chief of Staff

• Robert Owens, Jr—Deputy Inspector General for Management and Policy

• Robert DeConti—Chief Counsel to the Inspector General

• Christian Schrank—Deputy Inspector General for Investigations

• Amy Frontz—Deputy Inspector General for Audit Services

• Ann Maxwell—Deputy Inspector General for Evaluation and Inspections

• Maria Thompson—Assistant Inspector General/Chief Information Officer

• Kaitlin Devine—Assistant Inspector General/Chief Data Officer

• Lisa Re—Assistant Inspector General for Legal Affairs

• Adam Globerman—Assistant Inspector General for Investigations

• Derrick Franklin—Assistant Inspector General for Investigations

• Scott Lampert—Assistant Inspector General for Investigations

• Miranda Bennett—Assistant Inspector General for Investigations

• Tamara Lilly—Assistant Inspector General for Audit Services (Cybersecurity and IT Audits)

• Carla Lewis—Assistant Inspector General for Audit Services

• John Hagg—Assistant Inspector General for Audit Services

• Erin Bliss—Assistant Inspector General for Evaluation and Inspections

• Melicia Seay—Assistant Inspector General for Evaluation and Inspections

• Ruth Dorrill—Assistant Inspector General for Evaluation and Inspections

Department of Homeland Security, Phone Number: (202) 981-6000, CIGIE Liaison—Theresa Ellerbe, (856) 223-4049, theresa.ellerbe@oig.dhs.gov

• Cecilia O. Besse—Deputy Counsel to the Inspector General

• Thomas Kait—Deputy Inspector General for Inspections and Evaluations

Department of Housing and Urban Development, Phone Number: (202) 708-0430, CIGIE Liaison—Kudakwashe Ushe (202) 875-9952, kushe@hudoig.gov

• Kudakwashe Ushe—Assistant Inspector General for Operations

• Kilah White—Assistant Inspector General for Audit

• Ryan McGonagle—Deputy Assistant Inspector General for Audit

• Sarah Sequeira—Deputy Assistant for Audit

• Toccaro Greene—Chief Information Officer

• Audra Dortch—Assistant Inspector General for Investigation

• Stephen Begg—Deputy Inspector General

International Development Finance Corporation, Phone Number: (202) 361-8609, CIGIE Liaison—Gladis Griffith (202) 977-5893, Gladis.Griffith@dfc.gov

• Anthony Zakel—Inspector General (SL)

• Gladis Griffith—Deputy Inspector General & General Counsel (SL)

• Darrell Benjamin—Assistant Inspector General of Audits (SL)

Department of the Interior, Phone Number: (202) 208-5745, CIGIE Liaison—Karen Edwards (202) 208-5635, karen_edwards@doioig.gov

• Caryl Brzymialkiewicz—Deputy Inspector General

• Jill Baisinger—Chief of Staff

• Matthew Elliott—Assistant Inspector General for Investigations

• Edward “Ted” Baugh—Deputy Assistant Inspector General for Investigations

• Justin Martell—General Counsel

• Kathleen Sedney—Assistant Inspector General for Audit

• Nicole Miller—Deputy Inspector General for Audits

• Melanie Sorenson—Deputy Assistant Inspector General for Audits

• Jorge Christian—Assistant Inspector General for Management

• Michael O'Rourke-Assistant Inspector General for Strategy, Data, and Innovation

Department of Justice, Phone Number: (202) 514-3435, CIGIE Liaison—John Lavinsky (202) 514-3435, john.s.lavinsky@usdoj.gov

• William M. Blier—Deputy Inspector General

• Jonathan M. Malis—General Counsel

• Michael Sean O'Neill—Assistant Inspector General for Oversight and Review

• Patricia A. Sumner—Deputy Assistant Inspector General for Oversight and Review

• Jason R. Malmstrom—Assistant Inspector General for Audit

• Carol S. Taraszka—Deputy Assistant Inspector General for Audit

• Kevin M. Strug—Deputy Assistant Inspector General for Audit, Office of Data Analytics

• Sarah E. Lake—Assistant Inspector General for Investigations

• Sandra D. Barnes—Deputy Assistant Inspector General for Investigations

• Sanjay Arnold—Assistant Inspector General for Information Technology

• Allison E. Russo—Assistant Inspector General for Evaluation and Inspections

• Mark L. Hayes—Assistant Inspector General for Management and Planning

• Nancy L. House—Deputy Assistant Inspector General for Management and Planning

Department of Labor, Phone Number: (202) 693-5100, CIGIE Liaison—Erin Zickafoose (202) 693-7062, Zickafoose.erin@oig.dol.gov

• Luiz A. Santos—Deputy Inspector General

• Delores “Dee” Thompson—Counsel to the Inspector General

• Carolyn Ramona Hantz—Assistant Inspector General for Audit

• Laura Nicolosi—Deputy Assistant Inspector General for Audit

• Tawanda Holmes—Deputy Assistant Inspector General for Audit

• Michael C. Mikulka—Assistant Inspector General for Investigations—Labor Racketeering and Fraud

• Suzann K. Gallagher—Deputy Assistant Inspector General for Investigations—Labor Racketeering and Fraud

• Christopher T. Cooper—Deputy Assistant Inspector General for Investigations—Labor Racketeering and Fraud

• Tara A. Porter—Assistant Inspector General for Management and Policy

• Claudette L. Fogg-Castillo—Deputy Assistant Inspector General for Management and Policy

• Jessica Southwell—Chief Performance and Risk Management Officer

National Aeronautics and Space Administration, Phone Number: (202) 358-1220, CIGIE Liaison—Renee Juhans (202) 358-1712, renee.n.juhans@nasa.gov

• George A. Scott—Deputy Inspector General

• Robert H. Steinau—Assistant Inspector General for Investigations

• Frank LaRocca—Counsel to the Inspector General

• Kimberly F. Benoit—Assistant Inspector General for Audits

• Kathryn Sheehey—Assistant Inspector General for Management

National Archives and Records Administration, Phone Number: (301) 837-3000, CIGIE Liaison—John Simms (301) 837-1966, john.simms@nara.gov

• Dr. Brett M. Baker—Inspector General

National Science Foundation, Phone Number: (703) 292-7100, CIGIE Liaison—Lisa Vonder Haar (703) 292-2989, lvonderh@nsf.gov

• Theresa Hull—Assistant Inspector General for Audits

• Megan Wallace—Assistant Inspector General for Investigations

• Javiar Inclan—Assistant Inspector General for Management

• Ken Chason—Counsel to the Inspector General and Deputy IG

Nuclear Regulatory Commission, Phone Number: (301) 415-5930, CIGIE Liaison—Christine Arroyo (301) 415-0526, christine.arroyo@nrc.gov

• Ziad Buhaissi—Deputy Inspector General

• Malion Bartley—Assistant Inspector General for Investigations

• Hruta Vikar—Assistant Inspector General for Audits

Office of Personnel Management, Phone Number: (202) 606-1200, CIGIE Liaison—Faiza Mathon-Mathieu (202) 606-2236, Faiza.mathon-mathieu@opm.gov

• Norbert E. Vint—Deputy Inspector General

• Michael R. Esser—Assistant Inspector General for Audits

• Melissa D. Brown—Deputy Assistant Inspector General for Audits

• Lewis F. Parker, Jr—Deputy Assistant Inspector General for Audits

• Drew M. Grimm—Assistant Inspector General for Investigations

• Conrad Quarles—Deputy Assistant Inspector General for Investigations

• Nicholas E. Hoyle—Assistant Inspector General for Management

• Robin A. Thottungal—Deputy Assistant Inspector General for Management/Chief Information Officer

• Monyca W. Peyton—Deputy Assistant Inspector General for Management

• Paul N. St. Hillaire—Assistant Inspector General for Legal and Legislative Affairs

• Faiza Mathon-Mathieu—Deputy Assistant Inspector General for Legal and Legislative Affairs

Special Inspector General for Pandemic Recovery, Phone Number: (202) 713-8437, CIGIE Liaison—Geoffrey A. Cherrington (202) 713-8437, geoffrey.cherrington@sigpr.gov

• Geoffrey Cherrington—Assistant Inspector General for External Affairs

United States Postal Service, Phone Number: (703) 248-2100, CIGIE Liaison—Agapi Doulaveris (703) 248-2286, adoulaveris@uspsoig.gov

• Elizabeth Martin—Deputy Inspector General/Chief Diversity Officer

• Julius Rothstein—Deputy Inspector General/Attorney

• Robert Kwalwasser—Assistant Inspector General for Investigations

Railroad Retirement Board, Phone Number: (312) 751-4690, CIGIE Liaison—Patricia Marshall, (312) 751-3390, patricia.marshall@oig.rrb.gov

• Patricia Marshall—General Counsel to Inspector General/Deputy Inspector General

• Shanon E. Holman—Assistant Inspector General for Audit

Small Business Administration, Phone Number: (202) 205-6586, CIGIE Liaison—LaShaun Curry (202) 205-7367, lashaun.curry@sba.gov

• Sheldon Shoemaker—Deputy Inspector General

• Shafee Carnegie—Assistant Inspector General for Investigations

• Andrea Deadwyler—Assistant Inspector General for Audits

• Francine Hines—Assistant Inspector General for Management and Operations

• Hala Nsouli—Assistant Inspector General for Technology Solutions

Social Security Administration, Phone Number: (410) 966-8385, CIGIE Liaison—Tamara Schulman, (202) 235-3658, Tamara.Schulman@ssa.gov

• Michelle L. Anderson—Assistant Inspector General for Audit

• Mike Arbuco—Chief Operating Officer

• Jeffrey Brown—Deputy Assistant Inspector General for Audit

• B. Chad Bungard—Chief Strategy Officer

• Mark Franco—Deputy Assistant Inspector General for Investigations

• Joscelyn Funnié—Assistant Inspector General for Workforce Performance and Development

• Kevin Huse—Deputy Assistant Inspector General for Investigations

• Donald Jefferson—Assistant Inspector General for Investigations

• Adriana Menchaca-Gendron—Assistant Inspector General for Resource Management

• John Morenz—Assistant Inspector General for Information Technology

• Michelle M. Murray—Chief Counsel to the Inspector General

• Ted Planzos—Chief Investigative Counsel

• Adam Schneider—Deputy Assistant Inspector General for Investigations

• Mark Searight—Deputy Assistant Inspector General for Audit

Department of State and the U.S. Agency for Global Media, Phone Number: (571) 348-3804, CIGIE Liaison—Bonnie J. Stephens, (571) 348-3892, bonnie.j.stephens@stateoig.gov

• Sandra J. Lewis—Deputy Inspector General

• Nicole S. Matthis—Chief of Staff

• Matthew N. Tuchow—General Counsel

• Michael C. Zola—Deputy General Counsel

• Norman P. Brown—Assistant Inspector General for the Office of Audits

• Gayle L. Voshell—Deputy Assistant Inspector General for the Office of Audits

• Beverly J. Charlton—Deputy Assistant Inspector General for Audits—Global Emergencies and Emerging Risks

• Arne B. Baker—Assistant Inspector General for the Office of Inspections

• Lisa R. Rodely—Deputy Assistant Inspector General for the Office of Inspections

• Robert J. Smolich—Assistant Inspector General for the Office of Investigations

• Jason T. Loeffler—Deputy Assistant Inspector General for the Office of Investigations

• Andrew S. Chiu—Assistant Inspector General of the Office of Management and Resources

• Jeffrey D. McDermott—Assistant Inspector General for the Office of Evaluations and Special Projects

• Molly E. Hines—Deputy Assistant Inspector General for the Office of Management and Resources—Management

• Kevin J. Young—Deputy Assistant Inspector General for the Office of Management and Resources—Information Technology

• Shawn P. McKee (SL)—Senior Advisor for Construction and Contracts, Audits

• Jason T. Loeffler—Deputy Assistant Inspector General for Investigations

Department of Transportation, Phone Number: (202) 366-1959, CIGIE Liaison—Nathan P. Richmond, (202) 493-0422, Nathan.Richmond@oig.dot.gov

• Mitchell Behm—Deputy Inspector General

• Charles A. (Chuck) Ward—Principal Assistant Inspector General for Auditing and Evaluation

• Nelda Smith—Assistant Inspector General for Aviation Audits

• Dorry Dillard-Christian—Assistant Inspector General for Financial Audits

• David Pouliott—Assistant Inspector General for Surface Transportation Audits

• Carolyn Hicks—Assistant Inspector General for Acquisition and Procurement Audits

• Kevin Dorsey—Assistant Inspector General for Information Technology Audits

• Tiffany Mostert—Assistant Inspector General for Audit Operations and Special Reviews

• Elise Chawaga—Assistant Inspector General for Investigations

• Susan Ocampo—Deputy Assistant Inspector General for Investigations

• Andrea Nossaman—Assistant Inspector General Strategic Communications and Programs

• Omer Poirier—Chief Counsel

• Karl Schuler—Assistant Inspector General for Administration and Management

Department of the Treasury, Phone Number: (202) 622-1090, CIGIE Liaison—Letty Mayoral, (202) 927-5835, mayoralL@oig.treas.gov

• Richard K. Delmar—Deputy Inspector General

• Jeffrey Lawrence—Assistant Inspector General for Management

• Sally Luttrell—Assistant Inspector General for Investigations

• Sean McDowell—Deputy Assistant Inspector General for Investigations

• Deborah L. Harker—Assistant Inspector General for Audit

• Susan Barron—Deputy Assistant Inspector General for Financial Sector Audits

• Pauletta Battle—Deputy Assistant Inspector General for Financial Management and Transparency Audit

• Marla Freedman—Executive Advisor for Audit

• Robert Taylor Jr.—Executive Advisor for Audit

Treasury Inspector General for Tax Administration/Department of the Treasury, Phone Number: (202) 622-6500, CIGIE Liaison—Erika Jaskolski, (502) 537-5154, erika.jaskolski@tigta.treas.gov

• Gladys Hernandez—Chief Counsel

• Lori Creswell—Deputy Chief Counsel

• Deann Baiza—Assistant Inspector General Management Planning and Workforce

• Richard Varn II—Chief Information Officer

• Trevor Nelson—Deputy Inspector General for Investigations

• Heather Hill—Deputy Inspector General for Audit

• Russell Martin—Deputy Inspector General for Inspections and Evaluations

• Nancy LaManna—Assistant Inspector General for Inspections and Evaluations

• Danny Verneuille—Assistant Inspector General for Audit, Security and Information Technology Services

• Matthew Weir—Assistant Inspector General for Audit, Compliance and Enforcement Operations

• Diana Tengesdal—Assistant Inspector General for Audit, Returns Processing and Accounting Services

• Bryce Kisler—Assistant Inspector General for Audit, Management Services and Exempt Organizations

• John Kirk—Assistant Inspector General for Investigations—Investigations Operations

• Tyler Yetter—Assistant Inspector General for Investigations—Investigations Operations

Department of Veterans Affairs, Phone Number: (202) 264-9376, CIGIE Liaison—Dr. Scherill Crowley, (202) 834-3312, Scherill.crowley1@va.gov

• John D. Daigh—Assistant Inspector General for Healthcare Inspections

• Leigh Ann Searight—Deputy Assistant Inspector General for Audits and Evaluations

• Brent Arronte—Deputy Assistant Inspector General for Audits and Evaluations

• Jeffery Brown—Deputy Assistant Inspector General for Audits and Evaluations

David Morris,
Chief Operating Officer.

[FR Doc. 2024-27432 Filed 11-21-24; 8:45 am]

BILLING CODE 6820-C9-P